DEPARTMENT OF HEALTH AND HUMAN SERVICES

Centers for Disease Control and Prevention

Advisory Committee to the Director (ACD), Centers for Disease Control and Prevention (CDC)—Health Disparities Subcommittee (HDS)

Correction: This notice was published in the Federal Register on September 1, 2010, Volume 75, Number 169, page 53703. A quorum of the subcommittee's membership was not able to participate; therefore, the meeting was adjourned. The subcommittee will reconvene as follows:

Time and Date: 2 p.m.-3 p.m., October 21, 2010.

Place: Teleconference.

Status: Open to the public. Teleconference access limited only by the availability of telephone ports. The public is welcome to participate during the public comment period, which is tentatively scheduled from 2:45 p.m. to 2:50 p.m. To participate in the teleconference please dial (877) 394-7734 and enter conference code 9363147.

Purpose: The Subcommittee will provide recommendations for consideration to the ACD on strategic and other broad issues facing CDC.

Matters To Be Discussed: Policy brief on health equity and social determinants of health; update on collaboration with the CDC Health Equity Workgroup; CDC Director's Annual Health Disparity Report; and briefing on the realignment of the CDC Office of Minority Health and Health Disparities. Agenda items are subject to change as priorities dictate.

Contact Person for More Information: Walter W. Williams, M.D., M.P.H., Designated Federal Officer, HDS, ACD, CDC, 1600 Clifton Road, NE., M/S E-67, Atlanta, Georgia 30333. Telephone (404) 498-2310, E-mail: http://www1@cdc.gov.

The Director, Management Analysis and Services Office, has been delegated the authority to sign Federal Register notices pertaining to announcements of meetings and other committee management activities, for both the Centers for Disease Control and Prevention and the Agency for Toxic Substances and Disease Registry.

Dated: September 29, 2010.
Elaine L. Baker,
Director, Management Analysis and Services Office, Centers for Disease Control and Prevention.

[FR Doc. 2010-24911 Filed 10-4-10; 8:45 am]

BILLING CODE 4163-18-P